APPALACHIAN STATES LOW-LEVEL RADIOACTIVE WASTE COMMISSION

Annual Meeting

Time and Date: 10 a.m.-12 p.m., October 28, 2003.

Place: Harrisburg Hilton and Towers, One North Second Street, Harrisburg, PA 17101.

Status: Most of the meeting will be open to the public. If there is a need for an executive session (closed to the public), it will be held at about 9:30 a.m.

Matters To Be Considered

Portions Open to the Public: The primary purpose of this meeting is to (1) Review the independent auditors' report of Commission's financial statements for fiscal year 2002-2003; (2) Review the Low-Level Radioactive Waste (LLRW) generation information for 2002; (3) Consider a proposal budget for fiscal year 2004-2005; (4) Review recent national developments regarding LLRW management and disposal; (5) Review and discuss issues concerning waste from the Safety Light Site in Pennsylvania and the Aberdeen Proving Grounds in Maryland; and (6) Elect the Commission's Officers.

Portions Closed to the Public: Executive Session, if deemed necessary, will be held at about 9:30 a.m.

FOR FURTHER INFORMATION CONTACT: Richard R. Janati, Pennsylvania Staff member on the Commission, at 717-787-2163.

Richard R. Janati,
PA Staff Member on the Commission.

[FR Doc. 03-25601 Filed 10-8-03; 8:45 am]

BILLING CODE 0000-00-P